DEPARTMENT OF JUSTICE

Bureau of Prisons

28 CFR Part 540

[BOP Docket No. 1148-N]

RIN 1120-AB48

Communication Management Units

AGENCY: Bureau of Prisons, Justice.

ACTION: Proposed rule; Notice to Reopen Comment Period.

SUMMARY: In this document, the Bureau of Prisons (Bureau) reopens the comment period of the proposed rule published on April 6, 2010 (75 FR 17324) which proposed to establish and describe Communication Management Units (CMUs) by regulation. We now reopen the comment period for fifteen (15) additional days in order to allow inmates and interested parties additional opportunity to comment.

DATES: Written comments must be postmarked and electronic comments must be submitted on or before March 25, 2014. Comments received by mail will be considered timely if they are postmarked on or before that date. The electronic Federal Docket Management System (FDMS) will accept comments until Midnight Eastern Time at the end of that day.

ADDRESSES: Written comments should be submitted to the Rules Unit, Office of General Counsel, Bureau of Prisons, 320 First Street NW., Washington, DC 20534. You may view an electronic version of this regulation at www.regulations.gov. You may also comment by using the www.regulations.gov comment form for this regulation. When submitting comments electronically you must include the BOP Docket No. in the subject box.

FOR FURTHER INFORMATION CONTACT: Sarah Qureshi, Office of General Counsel, Bureau of Prisons, phone (202) 307-2105.

SUPPLEMENTARY INFORMATION:

Posting of Public Comments

Please note that all comments received are considered part of the public record and made available for public inspection online at www.regulations.gov. Such information includes personal identifying information (such as your name, address, etc.) voluntarily submitted by the commenter.

If you want to submit personal identifying information (such as your name, address, etc.) as part of your comment, but do not want it to be posted online, you must include the phrase “PERSONAL IDENTIFYING INFORMATION” in the first paragraph of your comment. You must also locate all the personal identifying information you do not want posted online in the first paragraph of your comment and identify what information you want redacted.

If you want to submit confidential business information as part of your comment but do not want it to be posted online, you must include the phrase “CONFIDENTIAL BUSINESS INFORMATION” in the first paragraph of your comment. You must also prominently identify confidential business information to be redacted within the comment. If a comment has so much confidential business information that it cannot be effectively redacted, all or part of that comment may not be posted on www.regulations.gov.

Personal identifying information identified and located as set forth above will be placed in the agency's public docket file, but not posted online. Confidential business information identified and located as set forth above will not be placed in the public docket file. If you wish to inspect the agency's public docket file in person by appointment, please see the FOR FURTHER INFORMATION CONTACT paragraph.

Discussion

In this document, the Bureau of Prisons (Bureau) reopens the comment period of the proposed rule published on April 6, 2010 (75 FR 17324) (2010 proposed rule) which proposed to establish and describe Communication Management Units (CMUs) by regulation. We now reopen the comment period for fifteen (15) additional days in order to allow inmates and interested parties additional opportunity to comment. We do so in response to current ongoing litigation with which the Bureau has been involved. We reopen the comment period for 15 days instead of the typical 60-day length of a proposed rule comment period because the rule was previously open for a 60-day public comment period in 2010 and we received over 700 comments during that time. We now reopen the comment period for a limited time to allow further comments from interested parties while striving to expedite the regulation development process.

The 2010 proposed rule codifies and describes the Bureau's procedures for designating inmates to, and limiting communication within, its Communication Management Units (CMU). Currently, the Bureau operates two CMUs, separately located at the Federal Correctional Complex (FCC), Terre Haute, Indiana (established in December 2006), and the United States Penitentiary (USP), Marion, Illinois (established in March 2008). For further information, please see the proposed rule published on April 6, 2010 (75 FR 17324).

List of Subjects in 28 CFR Part 540 Prisoners.

Dated: March 4, 2014.
Charles E. Samuels, Jr.,
Director, Bureau of Prisons.

[FR Doc. 2014-05083 Filed 3-7-14; 8:45 am]

BILLING CODE 4410-05-P